DEPARTMENT OF COMMERCE

U.S. Census Bureau

Proposed Information Collection; Comment Request; Survey of Income and Program Participation (SIPP) 2014 Panel

AGENCY: U.S. Census Bureau, Commerce.

ACTION: Notice.

SUMMARY: The Department of Commerce, as part of its continuing effort to reduce paperwork and respondent burden, invites the general public and other federal agencies to take this opportunity to comment on proposed and/or continuing information collections, as required by the Paperwork Reduction Act of 1995, Public Law 104-13 (44 U.S.C. 3506(c)(2)(A)).

DATES: To ensure consideration, written comments must be submitted on or before April 23, 2013.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Jason M. Fields, Census Bureau, Room HQ-7H069 Washington, DC 20233-8400, (301) 763-2465 (or via the Internet at jason.m.fields@census.gov).

SUPPLEMENTARY INFORMATION:

I. Abstract

The Census Bureau plans to conduct the Survey of Income and Program Participation 2014 Panel (SIPP) in 4 waves beginning in February 2014. Wave 1 of the SIPP 2014 Panel will be conducted from February to May of 2014. Wave 2 is scheduled to be conducted from January to April of 2015. Wave 3 is scheduled to be conducted from January to April of 2016. Wave 4 is scheduled to be conducted from January to April of 2017. The SIPP is a household-based survey designed as a continuous series of national panels. The SIPP represents a source of information for a wide variety of topics and allows the integration of information for separate topics to form a single, unified database allowing for the examination of the interaction between tax, transfer, and other government and private policies. Government domestic policy formulators depend heavily upon SIPP information concerning the distribution of income received either directly as money or indirectly as in-kind benefits and the effect of tax and transfer programs on that distribution. They also need improved and expanded data on the income and general economic and financial situation of the U.S. population, which the SIPP has provided on a continuing basis since 1983. The SIPP has measured levels of economic well-being and permitted measurement of changes in these levels over time.

A portion of the 2014 SIPP Panel will use an Event History Calendar (EHC) that facilitates the collection of dates of events and spells of coverage. The EHC should assist the respondent's ability to recall events accurately over the one year reference period and provide increased data quality and inter-topic consistency for dates reported by respondents. The EHC is intended to help respondents recall information in a more natural “autobiographical” manner by using life events as triggers to recall other economic events. The EHC was previously used in the 2010, 2011, 2012, and 2013 SIPP-EHC field tests. The content of the 2014 SIPP Panel will match that of the 2013 SIPP-EHC very closely. The 2014 Panel SIPP design does not contain freestanding topical modules; however, a portion of traditional SIPP topical module content is integrated into the 2014 SIPP Panel interview. Examples of this content include questions on medical expenses, child care, retirement and pension plan coverage, marital history, adult and child well-being, and others.

The 2014 SIPP Panel is a brand new “wave 1” sample with new survey respondents who were not interviewed in the previous 2010-2013 SIPP-EHC field tests. The 2014 SIPP Panel wave 1 will interview respondents using the previous calendar year 2013 as the reference period and will proceed with annual interviewing going forward. The 2014 SIPP Panel will use a revised interviewing method structure that will follow adults (age 15 years and older) who move from the prior wave household. Consequently, future waves will incorporate dependent data, which is information collected from the prior wave interview brought forward to the current interview.

The Census Bureau plans to use Computer Assisted Recorded Interview (CARI) technology for some of the respondents during the 2014 SIPP Panel. CARI is a data collection method that captures audio along with response data during computer-assisted personal and telephone interviews (CAPI & CATI). With the respondent's consent, a portion of each interview is recorded unobtrusively and both the sound file and screen images are returned with the response data to a central location for coding.

By reviewing the recorded portions of the interview, quality assurance analysts can evaluate the likelihood that the exchange between the field representative and respondent is authentic and follows critical survey protocol as defined by the sponsor and based on best practices. The 2014 SIPP Panel instrument will utilize the CARI Interactive Data Access System (CARI System), an innovative, integrated, multifaceted monitoring system that features a configurable web-based interface for behavior coding, quality assurance, and coaching. This system assists in coding interviews for measuring question and interviewer performance and the interaction between interviewers and respondents.

Approximately 45,000 households are expected to be interviewed for the 2014 SIPP Panel. We estimate that each household contains 2.1 people aged 15 and above, yielding approximately 94,500 person-level interviews per wave in this panel. Interviews take approximately 60 minutes per adult on average, consequently the total annual burden for 2014 SIPP-EHC interviews will be 94,500 hours per year in FY 2014, 2015, 2016, and 2017.

II. Method of Collection

The 2014 SIPP Panel instrument will consist of one interview per person per wave (year) resulting in four total interviews over the life of the panel. Each interview will reference the previous calendar year depending on the wave. The interview is conducted in person with all household members 15 years old or over using regular proxy-respondent rules. In the instances where the residence is not accessible or the respondent makes a request the interview may be conducted by telephone.

III. Data

OMB Control Number: 0607-0957.

Form Number: SIPP/CAPI Automated Instrument.

Type of Review: Regular.

Affected Public: Individuals or Households.

Estimated Number of Respondents: 94,500 people per wave.

Estimated Time per Response: 60 minutes per person on average.

Estimated Total Annual Burden Hours: 94,500 hours per wave.

Estimated Total Annual Cost: The only cost to respondents is their time.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 15, 2013.
Glenna Mickelson,
Management Analyst, Office of the Chief Information Officer.

[FR Doc. 2013-04067 Filed 2-21-13; 8:45 am]

BILLING CODE 3511-07-P